DEPARTMENT OF THE INTERIOR

Bureau of Land Management

[NV-030-00-1020-24]

Sierra Front-Northwestern Great Basin Resource Advisory Council; Notice of Meeting Location and Time

AGENCY: Bureau of Land Management, Interior.

ACTION: Notice of meeting location and time for the Sierra Front-Northwestern Great Basin Resource Advisory Council (Nevada)

SUMMARY: In accordance with the Federal Land Policy and Management Act and the Federal Advisory Committee Act of 1972 (FACA), the U.S. Department of the Interior, Bureau of Land Management (BLM) Sierra Front-Northwestern Great Basin Resource Advisory Council (RAC), Nevada, will be held as indicated below. Topics for discussion will include manager's reports of field office activities; BLM public lands disposal and acquisition processes; fire rehabilitation projects progress reports; discussion of a recreation fee demonstration program for Sand Mountain; review and RAC recommendations on the Walker River Basin EIS; and other topics the council may raise.

DATES AND TIMES: The RAC will meet on Thursday, March 28, 2002, from 9 a.m. to 5 p.m., and Friday, March 29, 2002, from 8 a.m. to 3 p.m., at the BLM-Carson City Field Office, 5665 Morgan Mill Road, Carson City, Nevada. All meetings are open to the public. A general public comment period will be held on Thursday, March 28, 2002, at 4 p.m.

A detailed agenda will be available on the internet by March 7, 2002, at www.nv.blm.gov/rac; hard copies can also be mailed or sent via FAX. Individuals who need special assistance such as sign language interpretation or other reasonable accommodations, or who wish a hard copy of the agenda, should contact Mark Struble, Carson City Field Office, 5665 Morgan Mill Road, Carson City, NV 89701, telephone (775) 885-6107 no later than March 21, 2002.

FOR FURTHER INFORMATION CONTACT: Mark Struble, Public Affairs Officer, BLM Carson City Field Office, 5665 Morgan Mill Road, Carson City, NV 89701. Telephone (775) 885-6107.

John O. Singlaub,
Field Manager, Carson City Field Office.

[FR Doc. 02-3313 Filed 2-11-02; 8:45 am]

BILLING CODE 4310-HC-P